NATIONAL AERONAUTICS AND SPACE ADMINISTRATION

[Notice (01-151)]

NASA Advisory Council (NAC); Meeting

AGENCY: National Aeronautics and Space Administration.

ACTION: Notice of meeting.

SUMMARY: In accordance with the Federal Advisory Committee Act, Pub. L. 92-463, as amended, the National Aeronautics and Space Administration announces an open meeting of the NASA Advisory Council (NAC).

DATES: Thursday, December 6, 2001, 8 a.m. to 3:30 p.m; and Friday, December 7, 2001, 8 a.m. to 1:30 p.m.

ADDRESSES: NASA Headquarters, 300 E Street, SW., Room MIC-7, Washington, DC 20546.

FOR FURTHER INFORMATION CONTACT: Mr. Philip Cleary, Code IC, National Aeronautics and Space Administration, Washington, DC 20546-0001, 202/358-4461.

SUPPLEMENTARY INFORMATION: The meeting will be open to the public up to the seating capacity of the room. The meeting will be closed to the public on Thursday, December 6, 2001, from 3:30 p.m. to 5:30 p.m. in accordance with 5 U.S.C. 552b(c)9(B), to hear a briefing on Space Shuttle privatization. The agenda for the meeting is as follows:

—Complete the deliberations of the report of the International Space Station Management and Cost Evaluation (IMCE) Task Force

—An evaluation of NASA's Strategic Resource Review

—An evaluation of NASA's performance against the FY 2001 Revised Final Performance Plan

Due to increased security measures at NASA Headquarters, please contact Ms. Kathy Dakon at 202/358-0732 if you plan to attend the meeting. Visitors will be requested to sign a visitor's register and will require escort within the NASA Headquarters building. It is imperative that the meeting be held on these dates to accommodate the scheduling priorities of the key participants.

Sylvia K. Kraemer,
Advisory Committee Management Officer, National Aeronautics and Space Administration.

[FR Doc. 01-29395 Filed 11-26-01; 8:45 am]

BILLING CODE 7510-01-P